DEPARTMENT OF THE INTERIOR

National Park Service

[NPS-WASO-NRNHL-0412-9961; 2200-3200-665]

National Register of Historic Places; Notification of Pending Nominations and Related Actions

Nominations for the following properties being considered for listing or related actions in the National Register were received by the National Park Service before March 24, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, 202-371-6447. Written or faxed comments should be submitted by April 30, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

MICHIGAN

Alger County

Grand Marais Harbor of Refuge Inner and Outer Lights, (Light Stations of the United States MPS) W. pier at entry to Grand Marais Harbor of Refuge (Burt Township), Grand Marais, 12000254.

MISSOURI

St. Louis Independent City

Yeatman Square Historic District, Parts of Glasgow, Leffingwell, Madison, Magazine, & N. Market Sts., St. Louis (Independent City), 12000255.

NEW YORK

Oneida County

Wright Settlement Cemetery, Cemetery Rd., Wright Settlement, 12000256.

Orange County

Denniston—Steidle House, 575 Jackson Ave., New Windsor, 12000257.

Orleans County

Clarendon General Store, 16301 E. Lee Rd., Clarendon, 12000258.

Payjack Chevrolet Building, 320 N. Main St., Medina, 12000259.

Saratoga County

Smith's Grain and Feed Store, 857 Main St., Elnora, 12000260.

Schoharie County

Stewart House and Howard—Stewart Family Cemetery, 583 NY 10, South Jefferson, 12000261.

Westchester County

St. George's Church, 1715 E. Main St., Mohegan Lake, 12000262.

NORTH CAROLINA

Forsyth County

Pepper Building, 100-106 W. 4th St., Winston-Salem, 12000263.

[FR Doc. 2012-8867 Filed 4-12-12; 8:45 am]

BILLING CODE 4312-51-P